DEPARTMENT OF HEALTH AND HUMAN SERVICES

Administration for Children and Families

Proposed Information Collection Activity; State Plan for Grants to States for Refugee Resettlement (Office of Management and Budget #0970-0351)

AGENCY: Office of Refugee Resettlement, Administration for Children and Families, U.S. Department of Health and Human Services.

ACTION: Request for public comments.

SUMMARY: The Administration for Children and Families (ACF), Office of Refugee Resettlement (ORR) is requesting a 3-year extension of the State Plan for Grants to States for Refugee Resettlement (Office of Management and Budget #0970-0351, expiration 6/30/2024). ORR is proposing changes to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: A State Plan is a required comprehensive narrative description of the nature and scope of a state's or Replacement Designee's (RD) Refugee Resettlement Program and provides assurances that the program will be administered in conformity with the specific requirements stipulated in 45 CFR 400.4-400.9. The State Plan must include all applicable state or RD procedures, designations, and certifications for each requirement as well as supporting documentation. The plan assures ORR that the state or RD is capable of administering refugee assistance and coordinating employment and other social services for eligible caseloads in conformity with specific requirements.

ORR proposes the following changes to the previously approved State Plan for Grants to States for Refugee Resettlement:

• streamlining/formatting multiple sections of the form, including technical corrections

• enhancing requirements for collaboration and engagement and expanding the non-discrimination aspects

• standardizing sections of the template related to health to reduce burden by clarifying text and removing duplicative parts

• streamlining sections related to the unaccompanied children to reduce burden by providing better options for responses and selections and by removing unnecessary and confusing text to ensure consistency regarding assurances

Respondents: State agencies and RDs under 45 CFR 400.301(c) administering or supervising the administration of programs.

Annual Burden Estimates
Instrument | Total number of respondents | Annual number of responses per respondent | Average burden hours per response | Annual burden hours
State Plan for Grants to States for Refugee Resettlement | 59 | 1 | 18 | 1,062

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C. 1522 of the Immigration and Nationality Act (the Act) [Title IV, Sec. 412 of the Act] for each state agency requesting federal funding for refugee resettlement under 8 U.S.C. 524 [Title IV, Sec. 414 of the Act].

Mary Jones,
ACF/OPRE Certifying Officer.

[FR Doc. 2023-24185 Filed 11-1-23; 8:45 am]

BILLING CODE 4184-45-P